DEPARTMENT OF ENERGY

Federal Energy Regulatory Commission

[Docket No. EL00-95-000, et al.]

Notice Establishing Due Dates for Filing Comments on the October 7, 2004 Technical Conference

October 13, 2004.

San Diego Gas & Electric Company, Complainant v. Sellers of Energy and Ancillary Services Into Markets Operated by the California Independent System Operator and the California Power Exchange, Respondents [Docket No. EL00-95-000].

Investigation of Practices of the California Independent System Operator and the California Power Exchange [Docket No. EL00-98-000, et al.]

California Independent System Operator Corporation [Docket No. ER03-746-000, et al.]

On October 7, 2004, the Federal Energy Regulatory Commission Staff held a technical conference to discuss with the California Independent System Operator Corporation (CAISO) and market participants and to facilitate a better understanding of several aspects of the CAISO's proposed methodology for allocating the fuel cost allowance, including: The netting of sales and purchases, the CAISO's proposed format for submitting fuel cost allowance claims, the impact of private settlements on fuel cost allowance allocation, and other miscellaneous issues.

As previously announced at the technical conference, interested participants should submit comments arising from the discussions at the October 7, 2004 technical conference no later than October 15, 2004. Reply comments should be filed no later than October 20, 2004.

In the event that the auditor Ernst & Young has questions and concerns regarding the auditing process, it should submit them as part of comments following the technical conference no later than October 15, 2004, to provide other participants with the opportunity to comment and to allow the Commission to address these questions in a future order.

Linda Mitry,
Acting Secretary.

[FR Doc. E4-2938 Filed 10-29-04; 8:45 am]

BILLING CODE 6717-01-P